DEPARTMENT OF THE INTERIOR

Minerals Management Service

Chukchi Sea Planning Area Oil and Gas Lease Sale 193 and Seismic Surveying Activities in the Chukchi Sea

AGENCY: Minerals Management Service, Interior.

ACTION: Notice of Availability of a Final Environmental Impact Statement (FEIS).

SUMMARY: The proposed federal action addressed in this FEIS (OCS EIS/EA MMS 2007-026) is to offer for lease areas in the Chukchi Sea Outer Continental Shelf (OCS) that might contain recoverable oil and gas resources. This lease sale would provide qualified bidders the opportunity to bid on certain blocks in the Chukchi Sea OCS to gain conditional rights to explore, develop, and produce oil and natural gas. This FEIS is the National Environmental Policy Act (NEPA) analysis to enable the MMS to make informed decisions on the configuration of the lease sale and the applicable mitigation measures. In the FEIS, the potential direct, indirect, and cumulative environmental impacts of the sale, including estimated exploration and development and production activities related to the sale, on the physical, biological, and human environments in the Chukchi Sea area are analyzed. The FEIS also provides NEPA evaluation for exploration activities in the Chukchi Sea, including seismic survey geophysical permitting (30 CFR part 251), ancillary activities (30 CFR 250.207), and exploration plans (30 CFR 250.214). In addition, the FEIS provides information that the U.S. Department of Commerce, National Oceanic and Atmospheric Administration, National Marine Fisheries Service (NMFS) may possibly use for issuance of Incidental Harassment Authorizations to the seismic-survey industry to take marine mammals by harassment, incidental to conducting prelease and ancillary on-lease oil and gas seismic surveys in the Chukchi Sea. To address its NEPA responsibilities, the NMFS is a cooperating agency (as that term is defined in 40 CFR 1501.6).

FOR FURTHER INFORMATION CONTACT: Minerals Management Service, Alaska OCS Region, 3801 Centerpoint Drive, #500, Anchorage, Alaska 99503-5823, Ms. Deborah Cranswick, telephone (907) 334-5267.

SUPPLEMENTARY INFORMATION: In this FEIS, the MMS has examined the potential environmental effects of the Proposed Action and its alternatives. The Proposed Action (Alternative I) is to conduct Chukchi Sea OCS Lease Sale 193 in 2008. The resource estimates and scenario information included in this FEIS analysis are presented as a range of activities that could be associated with the sale, including exploration seismic surveying, on-lease ancillary activities, exploration and delineation drilling, development and production of OCS oil and gas resources, and lease abandonment. The Proposed Action would offer for lease approximately 6,156 whole and partial blocks (about 34 million acres) identified as the program area in the 2002-2007 5-Year Program. Although Sale 193 was scheduled under the 2002-2007 5-Year Program, it is being held under the 2007-2012 5-Year Program to accommodate the time required to complete the EIS analyses and process. The proposed Sale 193 area excludes up to a 50-mile-wide corridor along the coast, the polynya or spring lead system. Water depths in the sale area vary from about 95 feet (ft) to approximately 262 ft. A small portion of the northeast corner of the area deepens to approximately 9,800 ft.

Alternative II (No Lease Sale) is equivalent to cancellation of the Proposed Action as scheduled in the approved 5-Year Program. The opportunity for development of the estimated oil and gas resources that could have resulted from the Proposed Action would be precluded or postponed, and any potential environmental impacts resulting from the Proposed Action would not occur or would be postponed.

Alternative III (Corridor I Deferral) is the Proposed Action excluding an area comprising approximately 1,765 whole or partial blocks along the coastward edge of the sale area. This alternative would attempt to reduce potential impacts to subsistence hunting as well as various wildlife species and associated habitats.

Alternative IV (Corridor II Deferral) is the Proposed Action excluding an area comprising approximately 795 whole or partial blocks along the coastward edge of the sale area. This alternative was developed as a result of the 1987 Biological Opinion for the Chukchi Sea as recommended by the NMFS.

The MMS also examines potential environmental effects of prelease seismic survey geophysical permitting. The FEIS includes an analysis of two alternatives for exploration seismic surveys: Alternative A and Alternative B. All permitted seismic surveys would be subject to the standard stipulations for geological and geophysical (G&G) permit activities, additional measures to mitigate seismic-surveying effects, and the mitigation and monitoring requirements of the selected alternative (Alternative 6) from the Final Programmatic Environmental Assessment (PEA) Arctic Ocean Outer Continental Shelf Seismic Surveys—2006, dated June 2006 (USDOI, MMS, 2006a). Alternative A would allow pre-Sale 193 seismic surveying in the entire proposed Sale 193 area (the area under Alternative I). Alternative B would prohibit pre-Sale 193 exploration seismic surveys in the 795 whole or partial blocks in Corridor II Deferral area (Alternative IV) along the coastward edge of the proposed Sale 193 area. The Corridor II Deferral area was developed from the recommended conservation measures in the 1987 Biological Opinion from NMFS. The southern end of the corridor was expanded to encompass a portion of the Ledyard Bay Critical Habitat Area that lies within the proposed Sale 193 area.

The U.S. Fish and Wildlife Service concluded in its March 28, 2007, Biological Opinion for Chukchi Sea Planning Area Oil and Gas Lease Sale 193 and Associated Seismic Surveys and Exploratory Drilling that, based on the information available at this time, the action would not jeopardize the continued existence of the spectacled or Steller's eider, or destroy or adversely modify designated critical habitat. The NMFS concluded in its Arctic Region Biological Opinion, dated June 2006, that leasing and exploration activities are not likely to jeopardize the continued existence of the threatened, endangered, or candidate species under its jurisdiction; however, the potential additive effects of oil and gas activities associated with exploration, production, and transportation throughout the Chukchi Sea and neighboring Beaufort Sea is of concern. The NMFS concluded further that activities associated with seismic surveys in the Chukchi Sea may adversely affect but not jeopardize the continued existence of any species listed under the ESA that are under the jurisdiction of the NMFS.

FEIS Availability: To obtain a copy of the final FEIS, you may contact the Minerals Management Service, Alaska OCS Region, Attention: Resource Center, 3801 Centerpoint Drive, #500, Anchorage, Alaska 99503-5823, telephone 1-800-764-2627, or by e-mail at akwebmaster@mms.gov. You may also view the FEIS on the MMS Web site at http://www.mms.gov/alaska.

Written Comments: Interested parties may submit their written comments on this FEIS until 30 days after the publication of this notice, to the Regional Director, Alaska OCS Region, Attention: Sale 193 Coordinator, Minerals Management Service, 3801 Centerpoint Drive, #500, Anchorage, Alaska 99503-5823, or by e-mail to akeis@mms.gov. Before including your address, phone number, e-mail address, or other personal identifying information in your comment, be advised that your entire comment-including your personal identifying information-may be made publicly available at any time. While you can ask us in your comment to withhold from public review your personal identifying information, we cannot guarantee that we will be able to do so. We will not consider anonymous comments, and we will make available for inspection in their entirety all comments submitted by organizations or businesses or by individuals identifying themselves as representatives of organizations or businesses.

Dated: June 4, 2007.
Walter D. Cruickshank,
Acting Director, Minerals Management Service.

[FR Doc. E7-11517 Filed 6-13-07; 8:45 am]

BILLING CODE 4310-MR-P